NUCLEAR REGULATORY COMMISSION

[NRC-2019-0235]

Revised Format for Biweekly Notices of Applications and Amendments to Licenses Involving No Significant Hazards Considerations

AGENCY: Nuclear Regulatory Commission.

ACTION: Notice of revised format for Biweekly Notices.

SUMMARY: The Nuclear Regulatory Commission (NRC) is notifying the public of its revised format for Biweekly Notices of Applications and Amendments to Facility Operating Licenses and Combined Licenses Involving No Significant Hazards Considerations.

DATES: The revised format described in this document takes effect on December 17, 2019.

ADDRESSES: Please refer to Docket ID NRC-2019-0235 when contacting the NRC about the availability of information regarding this document. You may obtain publicly-available information related to this document using any of the following methods:

• Federal Rulemaking Website: Go to https://www.regulations.gov/ and search for Docket ID NRC-2019-0235. Address questions about NRC docket IDs to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Eva Brown, U.S. Nuclear Regulatory Commission, Washington, DC 20555-0001, telephone: 301-415-2315, email: Eva.Brown@nrc.gov; or Andy Imboden, U.S. Nuclear Regulatory Commission, Washington, DC 20555-0001; telephone: 301-287-9055, email: Andy.Imboden@nrc.gov.

SUPPLEMENTARY INFORMATION: Section 189a.(2)(A) grants the Commission the authority to issue and make immediately effective any amendment to an operating license or combined license, as applicable, upon a determination by the Commission that such amendment involves no significant hazards consideration, notwithstanding the pendency before the Commission of a request for a hearing from any person. Section 189a.(2)(B) of the Atomic Energy Act of 1954, as amended, requires that the Commission periodically publish notice of any amendments issued, or proposed to be issued. To fulfill this requirement, the NRC issues a document entitled, “Biweekly Notice; Applications and Amendments to Facility Operating Licenses and Combined Licenses Involving No Significant Hazards Considerations,” in the Federal Register.

Instead of quoting each licensee's amendment application, the revised format will provide tables that state the proposed no significant hazards considerations determination and provide the location of the NRC's rationale for each determination in each of the listed applications. The revised format will also use tables to provide notice of license amendments issued. This streamlined format will provide efficiency to the public and stakeholders locating pertinent information and will be a government cost savings in time and print expenses. The public and stakeholders can still access all the information provided in each licensee's amendment application by going to the ADAMS accession numbers that will be provided in the tables.

Dated at Rockville, Maryland, this 22nd day of November, 2019.
For the Nuclear Regulatory Commission.
Craig G. Erlanger,
Director, Division of Operating Reactor Licensing, Office of Nuclear Reactor Regulation.

[FR Doc. 2019-25826 Filed 12-2-19; 8:45 am]

BILLING CODE 7590-01-P